ENVIRONMENTAL PROTECTION AGENCY

40 CFR Part 62

[R04-OAR-2004-TN-0003-200428(b); FRL-7881-6]

Approval and Promulgation of State Plan for Designated Facilities and Pollutants; Nashville, TN

AGENCY: Environmental Protection Agency (EPA).

ACTION: Proposed rule.

SUMMARY: EPA proposes to approve the section 111(d)/129 State Plan submitted by Tennessee for the Pollution Control District (PCD) of the Metro Public Health Department for Nashville/Davidson County on May 28, 2002, for implementing and enforcing the Emissions Guidelines applicable to existing Commercial and Industrial Solid Waste Incinerators. The Plan was submitted to satisfy Federal Clean Air Act requirements. In the final rules section of this Federal Register, the EPA is approving the Nashville/Davidson County State Plan revision as a direct final rule without prior proposal because the Agency views this as a noncontroversial revision amendment and anticipates no adverse comments. A detailed rationale for the approval is set forth in the direct final rule. If no adverse comments are received in response to the direct final rule, no further activity is contemplated in relation to this proposed rule. If EPA receives adverse comments, the direct final rule will be withdrawn and all public comments received will be addressed in a subsequent final rule based on this proposed rule. The EPA will not institute a second comment period on this rule. Any parties interested in commenting on this rule should do so at this time.

DATES: Comments must be received in writing by April 6, 2005.

ADDRESSES: Comments may be mailed to Joydeb Majumder, EPA Region 4, Air Toxics and Monitoring Branch, Sam Nunn Atlanta Federal Center, 61 Forsyth Street, SW., Atlanta, Georgia 30303-8960. Please follow the detailed instructions described in the direct final rule, ADDRESSES section which is published in the Rules section of this Federal Register.

FOR FURTHER INFORMATION CONTACT: Joydeb Majumder at (404) 562-9121 or Melissa Krenzel at (404) 562-9196.

SUPPLEMENTARY INFORMATION: For additional information see the direct final rule which is published in the Rules section of this Federal Register.

Dated: February 11, 2005.
A. Stanley Meiburg,
Acting Regional Administrator, Region 4.

[FR Doc. 05-4336 Filed 3-4-05; 8:45 am]

BILLING CODE 6560-50-P